DEPARTMENT OF COMMERCE

International Trade Administration

[A-201-847]

Heavy Walled Rectangular Welded Carbon Steel Pipes and Tubes From Mexico: Notice of Correction to the Final Results of Antidumping Duty Administrative Review and Final Determination of No Shipments; 2017-2018

AGENCY: Enforcement and Compliance, International Trade Administration, Department of Commerce.

SUMMARY: The Department of Commerce (Commerce) is correcting the final results in the antidumping duty administrative review and final determination of no shipments of heavy walled rectangular welded carbon steel pipes and tubes (HWR pipes and tubes) from Mexico to reflect the correct cash deposit rate in effect for all other producers or exporters.

DATES: Applicable July 28, 2020.

FOR FURTHER INFORMATION CONTACT: David Crespo or Jacob Garten, AD/CVD Operations, Office II, Enforcement and Compliance, International Trade Administration, U.S. Department of Commerce, 1401 Constitution Avenue NW, Washington, DC 20230; telephone: (202) 482-3693 or (202) 482-3342, respectively.

SUPPLEMENTARY INFORMATION:

Background

On July 13, 2020, Commerce published in the Federal Register the final results of the administrative review of the antidumping duty order on HWR pipes and tubes from Mexico for the period of review September 1, 2017 through August 31, 2018.¹ In the Final Results, we inadvertently stated that the cash deposit rate for all other producers or exporters will continue to be 3.24 percent. This notice serves to correct the cash deposit rate listed in the Final Results from 3.24 percent to 4.91 percent, which is the correct all-others rate established in the less-than-fair-value investigation.² No other changes have been made to the Final Results.

¹ See Heavy Walled Rectangular Welded Carbon Steel Pipes and Tubes From Mexico: Final Results of Antidumping Duty Administrative Review and Final Determination of No Shipments; 2017-2018, 85 FR 41962 (July 13, 2020) (Final Results).

² See Heavy Walled Rectangular Welded Carbon Steel Pipes and Tubes from the Republic of Korea, Mexico, and the Republic of Turkey: Antidumping Duty Orders, 81 FR 62865, 62866 (September 13, 2016).

Notification to Interested Parties

This correction to the final results of administrative review is issued and published in accordance with sections 751(a)(1) and 777(i)(1) of the Tariff Act of 1930, as amended.

Dated: July 21, 2020.
Jeffrey I. Kessler,
Assistant Secretary for Enforcement and Compliance.

[FR Doc. 2020-16327 Filed 7-27-20; 8:45 am]

BILLING CODE 3510-DS-P